DEPARTMENT OF DEFENSE

Office of the Secretary

Defense Innovation Board; Notice of Federal Advisory Committee Meeting

AGENCY: Under Secretary of Defense for Research and Engineering, Department of Defense (DoD).

ACTION: Notice of Federal Advisory Committee meeting.

SUMMARY: The DoD is publishing this notice to announce that the following Federal Advisory Committee meeting of the Defense Innovation Board (“the Board”) will take place.

DATES: Open to the public Thursday, October 31, 2019 from 09:30 a.m. to 12:00 p.m.

ADDRESSES: The meeting will be held at the Georgetown University, Rafik B. Hariri Building, Lohrfink Auditorium, 3700 O St. NW, Washington, DC 20057. The meeting will be live streamed for those unable to physically attend.

FOR FURTHER INFORMATION CONTACT: Colleen Laughlin, (571) 372-0933 (Voice), colleen.r.laughlin.civ@mail.mil (Email) or OSD.Innovation@mail.mil. Mailing address is Defense Innovation Board, ATTN: Designated Federal Officer, 3030 Defense Pentagon, Room 5E572, Washington, DC 20301-3030. Website: http://innovation.defense.gov. The most up-to-date changes to the meeting agenda can be found on the website.

SUPPLEMENTARY INFORMATION: This meeting is being held under the provisions of the Federal Advisory Committee Act (FACA) (5 U.S.C., Appendix), the Government in the Sunshine Act (5 U.S.C. 552b), and 41 CFR 102-3.140 and 102-3.150. Due to circumstances beyond the control of the DoD and the Designated Federal Officer, the Defense Innovation Board was unable to provide public notification required by 41 CFR 102-3.150(a) concerning the meeting on October 31, 2019, of the Defense Innovation Board. Accordingly, the Advisory Committee Management Officer for the Department of Defense, pursuant to 41 CFR 102-3.150(b), waives the 15-calendar day notification requirement.

Purpose of the Meeting: The mission of the Board is to examine and provide the Secretary of Defense and the Deputy Secretary of Defense independent advice and recommendations on innovative means to address future challenges in terms of integrated change to organizational structure and processes, business and functional concepts, and technology applications. The Board focuses on (a) technology and capabilities, (b) practices and operations, and (c) people and culture.

Agenda: During this public meeting, the Workforce, Behavior, and Culture Subcommittee will present on workforce issues, to include a Workforce Now project and a Campaign for an AI-Ready Force. The Science and Technology Subcommittee will present on Fully-Networked Command, Control, and Communications, Zero Trust Architecture, the source code provision of the Software Acquisition and Practices report, AI Ethics Principles, and their work plan for the rest of the calendar year. The Board will also discuss the implementation status of its recommendations in the Department. Members of the public will have an opportunity to provide oral comments to the Board regarding its deliberations and potential recommendations. See below for additional information on how to provide public comments.

Meeting Accessibility: Pursuant to Federal statutes and regulations (the FACA, the Sunshine Act, and 41 CFR 102-3.140 through 102-3.165) and the availability of space, the meeting is open to the public from 9:30 a.m. to 12:00 p.m. Seating is on a first-come basis. Members of the public wishing to attend the meeting or wanting to receive a link to the live stream webcast should register on the Board website, http://innovation.defense.gov/meetings, no later than October 25, 2019. Members of the media should RSVP to the Office of the Assistant to the Secretary of Defense (Public Affairs), at osd.pentagon.pa.list.dop-atl@mail.mil. Special Accommodations: Individuals requiring special accommodations to access the public meeting should contact the Designated Federal Officer, see FOR FURTHER INFORMATION CONTACT section for contact information, no later than October 25, 2019, so that appropriate arrangements can be made.

Written Statements: Pursuant to section 10(a)(3) of the FACA and 41 CFR 102-3.140, the public or interested organizations may submit written comments to the Board about its approved agenda pertaining to this meeting or at any time regarding the Board's mission. Individuals submitting a written statement must submit their statement to the DFO (see FOR FURTHER INFORMATION CONTACT section for contact information). Written comments that do not pertain to a scheduled meeting may be submitted at any time. However, if individual comments pertain to a specific topic being discussed at the planned meeting, then such comments must be received in writing not later than October 25, 2019. The DFO will compile all written submissions and provide them to Board members for consideration.

Oral Presentations: Individuals wishing to make an oral statement to the Board at the public meeting may be permitted to speak for up to two minutes. Anyone wishing to speak to the Board should submit a request by email at osd.innovation@mail.mil no later than October 25, 2019 for planning. Requests for oral comments should include a copy or summary of planned remarks for archival purposes. Individuals may also be permitted to submit a comment request at the public meeting; however, depending on the number of individuals requesting to speak, the schedule may limit participation. Webcast attendees will be provided instructions with the live stream link if they wish to submit comments during the open meeting.

Dated: October 24, 2019.
Morgan E. Park,
Alternate OSD Federal Register Liaison Officer, Department of Defense.

[FR Doc. 2019-23563 Filed 10-28-19; 8:45 am]

BILLING CODE 5001-06-P